DEPARTMENT OF INTERIOR

Bureau of Land Management

[AK-024-5440-L015; F-07357; F-93209]

Airport Conveyance; Fairbanks, AK

AGENCY: Bureau of Land Management, Interior.

ACTION: Notice of realty action.

SUMMARY: On February 1, 2001, the Federal Aviation Administration (FAA) determined that public land adjacent to the Fairbanks International Airport is necessary for airport operations and requested that the Bureau of Land Management (BLM) convey the land to the State of Alaska Department of Transportation and Public Facilities. BLM proposes to convey title to the State as requested. This Notice of Realty Action is necessary pursuant to BLM regulations.

DATES: Comments regarding the proposed conveyance may be submitted on or before July 8, 2002.

ADDRESSES: Written comments may be submitted to the Field Manager, Northern Field Office, Bureau of Land Management, 1150 University Avenue, Fairbanks, Alaska 99709.

FOR FURTHER INFORMATION CONTACT: Betsy Bonnell, at (907) 474-2336, or by e-mail at Betsy_Bonnell@blm.gov.

SUPPLEMENTARY INFORMATION: The parcel proposed for conveyance is described as follows:

Fairbanks Meridian, Alaska

T. 1 S., R. 2 W., Sec. 23, NE¼ NE¼, and Sec. 24, W½ NW¼ NW¼

Containing 55.31 acres.

The land is located at the corner of Anderson and Dale Roads, adjacent to the airport post office.

The FAA has determined that this public land is reasonably necessary for airport purposes. The State intends to lease the land and possibly use it for parking expansion. BLM has notified the FAA that conveyance of the land to the State of Alaska is not inconsistent with the needs of the Department of the Interior and that BLM proposes to convey title to the State under section 516 of the Airport and Airway Improvement Act of September 3, 1982 and the regulations at 43 CFR part 2640.

The above-described lands have been and remain segregated from all appropriation under the public land laws, including the mining and mineral leasing laws, by Public Land Order 2550, dated December 6, 1961, for use by the FAA.

Rights-of-way for existing roads will not be reserved as title will merge. However, conveyance of the land will be subject to valid existing rights and the following terms and conditions:

1. A right-of-way for ditches or canals will be reserved to the United States;

2. All minerals shall be reserved to the United States.

A complete list of the terms and covenants requested by the FAA administrator and those required for the protection of the Department of the Interior is available for review by interested persons at the address listed above.

Authority: 49 U.S.C. 2215.

Dated: April 10, 2002.
Robert W. Schneider,
Field Manager.

[FR Doc. 02-12905 Filed 5-22-02; 8:45 am]

BILLING CODE 4310-JA-P